DEPARTMENT OF HEALTH AND HUMAN SERVICES

Centers for Disease Control and Prevention

[60 Day-10-0527]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Human Exposure to Cyanobacterial Toxins in Water (OMB No. 0920-0527 exp. 2/28/2011)—Revision—National Center for Environmental Health (NCEH), Centers for Disease Control and Prevention (CDC).

Background and Brief Description

Cyanobacteria (also called blue-green algae) can be found in terrestrial, fresh, brackish, or marine water environments. Some species of cyanobacteria produce toxins that may cause acute or chronic illnesses (including neurotoxicity, hepatotoxicity, and skin irritation) in humans and animals (including other mammals, fish, and birds). A number of human health effects, including gastroenteritis, respiratory effects, skin irritations, allergic responses, and liver damage, are associated with the ingestion of or contact with water containing cyanobacterial blooms. Although the balance of evidence, in conjunction with data from laboratory animal research, suggests that cyanobacterial toxins are responsible for a range of human health effects, there have been few epidemiologic studies of this association.

In the first study of recreational microcystin (MC) exposure at a small lake, 104 study participants from lake visitors planning recreational activities that would generate aerosols were recruited, such as boating and using personal watercraft. During data collection for that study, MC concentrations within the bloom lake water were very low (<2-5 μg/L). Study participants' plasma MC concentrations were all below the limit of detection (0.147 μg/L) for the enzyme-linked immunosorbent assay (ELISA). The second study of recreational exposure to microcystins involved 81 children and adults planning recreational activities on one of three California reservoirs, two with significant, ongoing blooms of toxin-producing cyanobacteria, including Microcystis aeruginosa (bloom lakes) and one without a toxin-producing algal bloom (control lake). Highly variable microcystin concentrations were found in bloom lakes (<10 μg/L to > 500 μg/L); microcystin was not detected in control lake samples. Neither adenoviruses nor enteroviruses were detected in any of the lakes. Low microcystin concentrations were found in personal air samples (< 0.1 ng/m³ [limit of detection]—2.89 ng/m³) and nasal swabs (< 0.1 ng [limit of detection]—5 ng). Microcystin concentrations in the water-soluble fraction of all plasma samples were below the limit of detection (1.0 μg/L). Findings indicate that recreational activities in waterbodies experiencing toxin-producing cyanobacterial blooms can generate aerosolized cyanotoxins, making inhalation a potential route of exposure.

Based on earlier work, it seems unlikely that recreational exposure to cyanobacteria toxins during algal blooms on small lakes will cause acute illness in people. However, there are occupational circumstances, such as using stagnant ponds to irrigate landscapes or golf courses and growing and harvesting catfish in standing ambient water ponds, where exposure to these toxins is likely to be greater than what have been observed during recreational activities. It is possible that these workers may be exposed to biologically relevant concentrations of cyanobacterial toxins while performing job-related activities. To address this concern, this proposal is to assess exposure of catfish farm workers to cyanobacteria toxins occurring in the standing water of catfish ponds in Alabama. Dr. Alan Wilson of Auburn University will be a collaborator. Dr. Wilson has considerable experience working with the catfish farmers to address how the presence of cyanobacteria in pond water can impact the taste and odor of catfish offered for sale to commercial markets. Since most of the ponds of interest tend to develop HABs comprising Microcystis aeruginosa, this study will be limited to exposure to microcystins.

The purpose of the new data collection is to continue assessing the public health impact of exposure to the cyanobacterial toxins, microcystins. The extent of human exposure to microcystins present in catfish pond waters and associated aerosols and whether serum levels of microcystins can be used as a biomarker of exposure will be examined.

Estimate of Annualized Burden Hours
Respondents | Form name | Number of respondents | Number of responses per respondent | Average burden per response (in hours) | Total burden hours
Catfish farm workers | Screening Questionnaire | 60 | 1 | 5/60 | 5
| Pre-exposure Questionnaire | 50 | 1 | 10/60 | 8
| Post-exposure Questionnaire | 50 | 4 | 10/60 | 33
Total |  |  |  |  | 46

Dated: September 20, 2010.
Thelma E. Sims,
Acting Reports Clearance Officer, Centers for Disease Control and Prevention.

[FR Doc. 2010-24021 Filed 9-23-10; 8:45 am]

BILLING CODE 4163-18-P